OFFICE OF PERSONNEL MANAGEMENT

Notice of Federal Long-Term Care Insurance Program Open Season; Correction

AGENCY: U.S. Office of Personnel Management.

ACTION: Notice; correction.

SUMMARY: The Office of Personnel Management is submitting a correction to the notice published in the Federal Register of January 28, 2011 (76 FR 5222). The correction is a change for the ending date of the open season which is June 24, 2011.

DATES: This correction is effective as of February 3, 2011.

FOR FURTHER INFORMATION CONTACT: For further information, please call 1-800-LTC-FEDS (1-800-582-3337) (TTY: 1-800-843-3557) or visit http://www.ltcfeds.com. For purposes of this Federal Register notice, the contact at OPM is John Cutler, at john.cutler@opm.gov or 202-606-0004.

Correction

In the Federal Register of January 28, 2011, in FR Doc. 2011-1852, on page 5222, in the third column, correct the DATES caption to read:

DATES: The Open Season will run from April 4 through June 24, 2011.

U.S. Office of Personnel Management.
John O'Brien,
Director, Healthcare and Insurance.

[FR Doc. 2011-2370 Filed 2-2-11; 8:45 am]

BILLING CODE 6325-63-P